DEPARTMENT OF THE INTERIOR

Fish and Wildlife Service

Issuance of Permit for Incidental Take of Threatened Species for a Portion of the Meadows Property, Douglas County, CO

AGENCY: Fish and Wildlife Service, Interior.

ACTION: Notice of issuance of permit for incidental take of endangered species.

SUMMARY: On December 18, 2002, a notice was published in the Federal Register (67 FR 77507), that an application had been filed with the U.S. Fish and Wildlife Service (Service) jointly by the Castle Rock Development Company and Castle Rock Land Company, LLC, for a permit to incidentally take, under section 10(a)(1)(B) of the Endangered Species Act of 1973 (16 U.S.C. 1539), as amended, Preble's meadow jumping mouse (Zapus hudsonius preblei), pursuant to the terms of the “Environmental Assessment/Habitat Conservation Plan for Issuance of an Endangered Species Section 10(a)(1)(B) Permit for the Incidental Take of the Preble's Meadow Jumping Mouse (Zapus hudsonius preblei) for a Portion of the Meadows Property in Douglas County, Colorado.”

Notice is hereby given that on February 17, 2004, as authorized by the provisions of the Endangered Species Act, the Service issued a permit (TE-064965-0) to the above named party subject to certain conditions set forth therein. The permit was granted only after the Service determined that it was applied for in good faith, that granting the permit would not be to the disadvantage of the threatened species, and that it would be consistent with the purposes and policy set forth in the Endangered Species Act, as amended.

Additional information on this permit action may be requested by contacting the Colorado Field Office, 755 Parfet Street, Suite 361, Lakewood, Colorado 80215, telephone (303) 275-2370 between the hours of 7 a.m. and 4:30 p.m. weekdays.

Dated: February 17, 2004.
Ralph O. Morgenweck,
Regional Director, Region 6.

[FR Doc. 04-4448 Filed 2-27-04; 8:45 am]

BILLING CODE 4310-55-P